NUCLEAR REGULATORY COMMISSION

[Docket No. 50-333]

Entergy Nuclear Operations; James A. Fitzpatrick Nuclear Power Plant Environmental Assessment and Finding of No Significant Impact

The U.S. Nuclear Regulatory Commission (the NRC) is considering issuance of an amendment to Facility Operating License No. NPR-59, issued to Entergy Nuclear Operations (ENO or the licensee) for operation of the James A. FitzPatrick Nuclear Power Plant (FitzPatrick), located in Oswego County, New York. Therefore, as required by 10 CFR 51.21, the NRC is issuing this environmental assessment and finding of no significant impact. The original application was submitted by the Power Authority of the State of New York, (PASNY), and an Environmental Assessment (EA) and Finding of No Significant Impact (FONSI) was originally published in the Federal Register (64 FR 66509) on November 26, 1999.

On November 21, 2000, PASNY's ownership interest in FitzPatrick was transferred to Entergy Nuclear FitzPatrick, LLC, to possess and use FitzPatrick and to ENO to possess, use and operate FitzPatrick. By letter dated January 26, 2001, ENO requested that the NRC continue to review and act on all requests before the Commission which had been submitted by PASNY before the transfer. As set forth below, PASNY and ENO submitted several supplements to the application. The information included in the supplemental letters indicates that the original notice, which included eleven proposed beyond-scope issues (BSIs) to the improved Technical Specifications (ITS) conversion, needs to be expanded (added 27 new BSIs) and revised to include a total of 38 BSIs. Accordingly, the NRC is issuing this EA and FONSI, which supercede the original EA and FONSI.

Environmental Assessment

Identification of the Proposed Action

The proposed action would revise the existing, or current, Technical Specifications (TS) for FitzPatrick in their entirety based on the guidance provided in NUREG-1433, “Standard Technical Specifications for General Electric Plants, BWR/4,” Revision 1, dated April 1995, and in the Commission's “Final Policy Statement on Technical Specifications Improvements for Nuclear Power Reactors,” published on July 22, 1993 (58 FR 39132). The proposed amendment is in accordance with the request by PASNY, the former licensee, in a letter dated March 31,1999, as supplemented by letters dated May 20, June 1, July 14, October 14, 1999, February 11, April 4, April 13, June 30, July 31, September 12, September 13, and October 23, 2000. ENO has supplemented the original application by letter dated May 31, 2001.

The Need for the Proposed Action

It has been recognized that nuclear safety in all nuclear power plants would benefit from the improvement and standardization of plant TS. The “NRC Interim Policy Statement on Technical Specification Improvements for Nuclear Power Plants” (52 FR 3788), contained proposed criteria for defining the scope of TS. Later, the Commission's “Final Policy Statement on Technical Specifications Improvements for Nuclear Power Reactors,” published on July 22, 1993 (59 FR 39132), incorporated lessons learned since publication of the interim policy statement and formed the basis for revisions to 10 CFR 50.36, “Technical Specifications.” The “Final Rule” (60 FR 36953) codified criteria for determining the content of TS. To facilitate the development of standard TS for nuclear power reactors, each power reactor vendor owners' group (OG) and the NRC staff developed standard TS. For FitzPatrick, the Improved Standard Technical Specifications (ISTS) are in NUREG-1433, Rev. 1. The NRC Committee to Review Generic Requirements (CRGR) reviewed the ISTS, made note of their safety merits, and indicated its support of the conversion by operating plants to the ISTS.

Description of the Proposed Change

The proposed changes to the current TS (CTS) are based on NUREG-1433, Revision 1, and on guidance provided by the Commission in the Final Policy Statement. The objective of the changes is to completely rewrite, reformat, and streamline the TS (i.e., to convert the CTS to Improved Technical Specifications (ITS)). Emphasis is placed on human factors principles to improve clarity and understanding of the TS. The Bases section of the ITS has been significantly expanded to clarify and better explain the purpose and foundation of each specification. In addition to NUREG-1433, Revision 1, portions of the CTS were also used as the basis for the development of the FitzPatrick ITS. Plant-specific issues (e.g., unique design features, requirements, and operating practices) were discussed with the licensee, and generic matters were discussed with General Electric and other OGs.

The proposed changes from the ITS can be grouped into four categories. These groupings are characterized as administrative changes, relocation changes, more restrictive changes and less restrictive changes.

1. Administrative changes are those that involve restructuring, renumbering, rewording, interpretation, and complex rearranging of requirements and other changes not affecting technical content or substantially revising an operating requirement. The reformatting, renumbering, and rewording process reflects the attributes of NUREG-1433, Rev. 1, and does not involve technical changes to the ITS. The proposed changes include: (a) providing the appropriate numbers, etc., for NUREG-1433 bracketed information (information that must be supplied on a plant-specific basis, and which may change from plant to plant), (b) identifying plant-specific wording for system names, etc., and (c) changing NUREG-1433 section wording to conform to existing licensee practices. Such changes are administrative in nature and do not impact initiators of analyzed events or assumed mitigation of accident or transient events.

2. Relocation changes are those involving relocation of requirements and surveillances for structures, systems, components, or variables that do not meet the criteria for inclusion in TS. Relocated changes are those CTS requirements that do not satisfy or fall within any of the four criteria specified in 10 CFR 50.36(c)(2)(ii) and may be relocated to appropriate licensee-controlled documents.

The licensee's application of the screening criteria is described in the attachment of the licensee's March 31, 1999, submittal, which is entitled, “Application of NRC Selection Criteria to James A. FitzPatrick Nuclear Power Plant Technical Specifications” (Split Report) in Volume 1 of the submittal. The affected structures, systems, components or variables are not assumed to be initiators of analyzed events and are not assumed to mitigate accident or transient events. The requirements and surveillances for these affected structures, systems, components, or variables will be relocated from the TS to administratively controlled documents such as the quality assurance program, the final safety analysis report (FSAR), the ITS BASES, the Technical Requirements Manual (TRM) that is incorporated by reference in the FSAR, the Core Operating Limits Report (COLR), the Offsite Dose Calculation Manual (ODCM), the Inservice Testing (IST) Program, or other licensee-controlled documents. Changes made to these documents will be made pursuant to 10 CFR 50.59 or other NRC-approved control mechanisms, which provide appropriate procedural means to control changes by the licensee.

3. More restrictive changes are those involving more stringent requirements compared to the CTS for operation of the facility. These more stringent requirements do not result in operation that will alter assumptions relative to the mitigation of an accident or transient event. The more restrictive requirements will not alter the operation of process variables, structures, systems, and components described in the safety analyses. For each requirement in the ISTS that is more restrictive than the CTS that the licensee proposes to adopt in the ITS, the licensee has provided an explanation as to why it has concluded that adopting the more restrictive requirement is desirable to ensure safe operation of the facility because of specific design features of the plant.

4. Less restrictive changes are those where CTS requirements are relaxed or eliminated, or new plant operational flexibility is provided. The more significant “less restrictive” requirements are justified on a case-by-case basis. When requirements have been shown to provide little or no safety benefit, their removal from the TS may be appropriate. In most cases, relaxations previously granted to individual plants on a plant-specific basis were the result of (a) generic NRC actions, (b) new NRC staff positions that have evolved from technological advancements and operating experience, or (c) resolution of the Owners Groups' comments on the ISTS. Generic relaxations contained in NUREG-1433, Rev. 1 were reviewed by the staff and found to be acceptable because they are consistent with current licensing practices and NRC regulations. The licensee's design is being reviewed to determine if the specific design basis and licensing basis are consistent with the technical basis for the model requirements in NUREG-1433, Rev. 1, thus providing a basis for the ITS, or if relaxation of the requirements in the ITS is warranted based on the justification provided by the licensee.

These administrative, relocated, more restrictive, and less restrictive changes to the requirements of the ITS do not result in operations that will alter assumptions relative to mitigation of an analyzed accident or transient event.

In addition to the proposed changes solely involving the conversion, there are also changes proposed that are differences to the requirements in both the CTS and the ISTS. These proposed beyond-scope issues to the ITS conversion are as follows:

1. ITS 3.0.3, Limiting Condition for Operation (LCO) to be in MODE 2 was changed to allow a 9-hour completion time.

2. ITS 3.3.1.1, Reactor Protection System (RPS) Instrumentation Function 5, reactor scram on main steam isolation valve (MSIV) closure. The trip setting valve was changed from less than or equal to 10 percent (in the CTS) to less than or equal to 14 percent in the ITS.

3. ITS 3.3.1.1, Extending Required Action F.1 Completion Time from 6 hours to 8 hours for consistency with Current Licensing Basis (CLB) and changing 3.0.3, which currently allows 8 hours to be in MODE 2 after initiation of Action.

4. ITS 3.3.5.1, Automatic Depressurization System (ADS) initiation timer and the containment Spray (CS) and Low-Pressure Coolant Injection (LPCI) pump start timer values were changed from the CTS and the ISTS and tolerances relaxed to allow the extension of calibration frequency to 24 months in the ITS.

5. ITS 3.3.5.1, CS, LPCI, and ADS Logic System Functional Test (LSFT) frequency was extended from 18 months (in the CTS) to 24 months in the ITS.

6. ITS 3.4.9, Reactor Coolant System (RCS) Pressure/Temperature (PT) Limits in CTS were changed to add a new alternate criteria in ITS to allow idle recirculating pump (loop) start if the operating loop is greater than 40 percent flow or if the idle loop is less than 40 percent flow for less than or equal to 30 minutes.

7. ITS 3.5.1, Emergency Core Cooling System (ECCS)—Operating, High-Pressure Coolant Injection (HPCI) and LPCI pump flow rates in CTS were reduced to SAFER/GESTR-Loss-of-Coolant Accident (LOCA) flow rates in the ITS.

8. ITS 3.5.2, ECCS-Shutdown, reduced Residual Heat Removal (RHR) LPCI pump flow rates in CTS to SAFER/GESTR-LOCA flow rates as in ITS 3.5.1 for RHR LPCI pumps.

9. ITS 3.8.1, AC Sources—Operating, Condition D for two reserve circuits inoperable in CTS was changed to add new interim power reduction to less than or equal to 45 percent with a 36-hour Completion Time in the ITS.

10. ITS 3.8.4, DC Sources—Operating (in CTS) was changed to allow 8 hours to restore one inoperable source in the ITS.

11. ITS 5.5, changed Standby Gas Treatment (SGT) and Control Room Emergency Ventilation Air Supply (CREVAS) system filter testing (in the CTS) from 6 months (or 12 months) to 24 months in the ITS for consistency with Regulatory Guide 1.52, Revision 2 or the fuel cycle length.

12. ITS 3.3.5.01 changed CTS Table 3.3-2, Item 5, Reactor Low Level Containment spray interlock trip level setting of >~0.0 inch to >~1.0 inch in ITS Table 3.3.5.1-1.

13. ITS 3.3.5.1 changed CTS Table 3.2-2 Item 9, Reactor Low Pressure, LPCI and Core Spray Injection Valve Open Permissive of >450 psig to >410 psig in ITS Table 3.3.4.1-1 Functions 1.c and 2.c.

14. ITS 3.3.5.1 changed the trip setpoint Allowable Values in CTS Table 3.2-2 for the core Spray Pump Start Timer (item 11), the RHR LPCI Pump Start Timer (item 12), and the Auto Blowdown Timer (item 13) in CTS Table 3.3.5.1-1 Functions 1.d, 2.f, 4.b and 5.b to reflect values corresponding to a 6 month to 24-month reduction in calibration frequency.

15. ITS 3.3.5.1 changed the trip setpoint Allowable Values in CTS Table 3.2-1 for the suppression Chamber High Level (item 13) in CTS Table 3.3.5.1-1 Function 3.e to 14.5 inches which is <~6 inches above normal level.

16. ITS 3.3.5.1 changed the CTS Table 3.2-2 trip level setting for Item 24, Reactor Low-pressure from 285 to 335 psig to >~300 psig in ITS Table 3.3.5.1 Function 2.d.

17. ITS 3.3.6.1 changed the Allowable Values in CTS Table 3.2-1 for the HPCI Turbine Steam Line High Flow to reflect values corresponding to 160 to 161 inches of water dp in ITS Table 3.3.6.1-1 Function 3.a.

18. ITS 3.3.6.1 changed the trip setpoint Allowable Value “HPCI/Reactor Core Isolation Cooling (RCIC) Steam Line Low Pressure” in CTS Table 3.3.6.1-1 Function 3.b and 4.b to reflect values corresponding to >60 and <90 for HPCI and >61 and <~90 for RCIC.

19. ITS 3.3.8.2 changed the Trip Level Settings for Loss of Offsite Power (LOP) instrumentation listed in CTS Table 3.2.-2 to new ITS Allowable Values listed in ITS Table 3.3.8.1-1.

20. ITS 3.3.8.2 changed CTS 4.9.G.3 setpoint or Allowable Value of >~108V to >109.9V in its ITS SR 3.3.8.2.3.

21. ITS 3.4.7 added an RHR Shutdown Cooling-Hot Shutdown specification to the ITS SPECIFICATION based on the current licensing basis.

22. ITS 3.6.1.1 changed the location of the details requiring that the drywell and suppression chamber leakage rate limit shall be monitored via the suppression chamber 10 minute pressure transient of 0.25 inches of water/minute to ITS B3.6.1.1 Bases—SR 3.6.1.1.2.

23. ITS 3.6.1.3 modifies the ISTS criteria for the surveillance of Excess Flow Check valves (EFCV) to require that the EFCV be tested for proper operation to actuate to the isolation position on an actual or simulated instrument line break. This would be reflected in ITS SR 3.6.1.3.8.

24. ITS 3.6.1.7 modifies CTS 4.7.A.5 by addition of a new surveillance requirement (ITS SR 3.6.7.1). ITS SR 3.6.7.1, which is based on ISTS SR 3.6.1.8.1, will require verification that each suppression chamber-to-drywell vacuum breaker is closed every 14 days. The ITS SR 3.6.7.1 also deletes the ISTS SR 3.6.8.1 requirement in observing the vacuum breaker position by verifying that a differential pressure of [0.5] psid between the suppression chamber and the drywell is maintained for 1 hour without makeup.

25. ITS 3.6.1.7 ACTION B changes the Completion Time to close the open vacuum breaker when one suppression chamber-to-drywell vacuum breaker is not closed to 12 hours instead of 2 hours as required by ISTS 3.6.1.8 ACTION B.

26. ITS 3.6.1.9 modifies ISTS SR 3.6.1.7.1 RHR Containment Spray System by deleting the SR Note on system alignment in MODE 3, and adds the phrase “or can be aligned to the correct position” in ITS SR 3.6.1.9.1. The details of the SR Note have been relocated to ITS B3.6.1.9 Bases—LCO.

27. ITS 3.6.2.3 modifies ISTS B3.6.2.3—LCO by adding an insert that defines RHR Suppression Pool Cooling System OPERABILITY in MODE 3. The addition is for enhanced clarity or consistency with other Bases and is not in the ISTS.

28. ITS 3.8.1 deletes the requirement that all core and containment cooling systems and shutdown cooling systems are OPERABLE in the CTS 3.9.B.2 requirement that allows operation for 7 days with 2 offsite circuits inoperable, provided that all EDGs are OPERABLE and all core and containment cooling systems and shutdown cooling systems are OPERABLE. Instead, ITS 3.8.1 would add a requirement to declare required features inoperable when the redundant required features are inoperable, and a requirement to reduce power to less than 45 percent or RTP. The 7-day completion time to restore both offsite circuits to OPERABLE status would remain unchanged.

29. ITS 3.3.1.1 replaces the CTS 2.1.5, “Main Steam Line Isolation Valve Closure Scram” trip setting from <10 percent closure to <14 percent closure in proposed ITS Table 3.3.1.1-1 Function 5, “Main Steam Line Isolation Valve-Closure”.

30. ITS 3.3.3.1 changes the CTS Table 3.2-8, Note k by a footnote (c) in ITS Table 3.3.3.1-1, Function 10, Suppression Pool Water Temperature operability, which states “A channel requires 15 of 16 RTDs to be OPERABLE.”

31. ITS 3.3.3.1 relaxes the CTS Table 3.2-8 Note A requirement to be in cold shutdown within 24 hours when one or more of Items 15 through 18 (ECCS or Primary containment cooling operating Parameters) PAM channel(s) have not been restored to operable status within 30 days. ITS 3.3.3.1 ACTION B specifies initiating action in accordance with ITS 5.5.6, which relates to reporting requirements.

32. ITS 3.3.3.1 adds additional instrument requirements to the CTS Table 3.2-8, which includes a Reactor Vessel Water Level Function and for Drywell Water Level.

33. ITS 3.3.3.2 relocates details in CTS Table 3.2-10 relating to Instrument and control functions of the Remote Shutdown System (including number of channels and divisions), which are unnecessary in the LCO, to the Technical Requirements Manual (TRM).

34. ITS 3.3.4.1 changes the CTS and ISTS channel configuration from 2 channels per trip system to 4 channels in one trip system.

35. ITS 3.5.1 added several ACTIONS (ACTION A, B, C, E, G, H, I, and J) that neither conform to the CTS nor adopt the ISTS. These are new actions to the Core Spray systems, the low pressure coolant injection systems and the high pressure coolant injection systems.

36. ITS 3.5.3 divides the existing CTS 4.5.E.1.d SR that “RCIC delivers at least 400 gpm against a system head corresponding to a reactor vessel pressure of 1195 psig to 150 psig” into two separate Surveillance Requirements: ITS SR 3.4.3.5 and ITS SR 3.5.3.6.

37. ITS 3.5.3 adds an additional requirement to CTS SR 3.5.3.3 that requires the performance of the surveillance “Once each startup prior to exceeding 25 percent RTP.”

38. ITS 3.3.1.1 changed low function set points on the Allowable Values for Reactor Pressure, High Turbine Stop Valve Closure and Turbine Control Valve Fast Closure, EHC Oil Pressure in CTS 2.1.A.4, and CTS Table 3.1-1.

Environmental Impacts of the Alternatives to the Proposed Action

The NRC has completed its evaluation of the proposed conversion of the CTS to the ITS for FitzPatrick, including the beyond scope issues discussed above. Changes which were administrative in nature have been found to have no effect on the technical content of the TS. The increased clarity and understanding these changes bring to the TS are expected to improve the operators' control of FitzPatrick in normal and accident conditions.

Relocation of the requirements from the ITS to other licensee-controlled documents does not change the requirements themselves. Future changes to these requirements may be made by the licensee under 10 CFR 50.59 and other NRC-approved control mechanisms, which will ensure continued maintenance of adequate requirements. All such relocations have been found consistent with the guidelines of NUREG-1433, Rev.1, and the Commissions's Final Policy Statement.

Changes involving more restrictive requirements have been found to enhance plant safety.

Changes involving less restrictive requirements have been reviewed individually. When requirements have been shown to provide little or no safety benefit, or to place an unnecessary burden on the licensee, their removal from the TS was justified. In most cases, the relaxations previously granted to individual plants on a plant-specific basis were the result of generic action, or of agreements reached during discussions with the owners groups, and found to be acceptable for the plant. Generic relaxations contained in NUREG-1433, Revision 1, have been reviewed by the NRC staff and found to be acceptable.

In summary, the proposed revisions to the TS were found to provide control of plant operations such that reasonable assurance will be provided that the health and safety of the public will be adequately protected.

The proposed action will not significantly increase the probability or consequences of accidents, no changes are being made in the types of any effluents that may be released off site, and there is no significant increase in occupational or public radiation exposure. Therefore, there are no significant radiological environmental impacts associated with the proposed action.

With regard to potential nonradiological impacts, the proposed action involves features located entirely within the restricted area for the plant defined in 10 CFR Part 20 and does not have the potential to affect any historic sites. It does not affect nonradiological plant effluents and have no other environmental impact. It does not increase any discharge limit for the plant. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in the current environmental impacts. The environmental impacts of the proposed action and alternative action are similar.

Alternative Use of Resources

This action does not involve the use of any resource not previously considered in the FES for FitzPatrick.

Agencies and Persons Consulted

On June 27, 2001, the staff consulted with the New York State official, Mr. Jack Spath, of the New York Energy and Research Authority, regarding the environmental impact of the proposed amendment. The State official had no comments.

Finding of No Significant Impact

On the basis of the environmental assessment, the NRC concludes that the proposed amendment will not have a significant effect on the quality of the human environment. Accordingly, the NRC has determined not to prepare an environmental impact statement for the proposed action.

For further details with respect to the proposed action, see the licensee's application dated March 31, 1999, as supplemented by letters dated May 20, June 1, July 14, October 14, 1999, February 11, April 4, April 13, June 30, July 31, September 12, September 13, October 23, 2000, and May 31, 2001. Documents may be examined, and/or copied for a fee, at the NRC's Public Document Room, located at One White Flint North, 11555 Rockville Pike (first floor), Rockville, Maryland. Publicly available records will be accessible electronically from the Agencywide Documents Access and Management Systems (ADAMS) Public Electronic Reading Room on the Internet at the NRC web site, http://www.nrc.gov/NRC/ADAMS/index.html. If you do not have access to ADAMS or if there are problems in accessing the documents located in ADAMS, contact the NRC Public Document Room (PDR) Reference staff at 1-800-397-4209, 301-415-4737, or by e-mail to pdr@nrc.gov.

Dated at Rockville, Maryland this 7th day of August 2001.
For the Nuclear Regulatory Commission.
Richard P. Correia,
Acting Chief, Section 1, Project Directorate 1, Division of Licensing Project Management, Office of Nuclear Reactor Regulation.

[FR Doc. 01-20402 Filed 8-13-01; 8:45 am]

BILLING CODE 7590-01-P